INTERNATIONAL TRADE COMMISSION

[Investigation No. 337-TA-1152]

Certain Vehicle Security and Remote Convenience Systems and Components Thereof: Institution of Investigation

AGENCY: U.S. International Trade Commission.

ACTION: Notice.

SUMMARY: Notice is hereby given that a complaint was filed with the U.S. International Trade Commission on March 5, 2019, under section 337 of the Tariff Act of 1930, as amended, on behalf of DEI Holdings, Inc. and Directed, LLC of Vista, California, and Directed Electronics Canada Inc. of Canada. The complaint alleges violations of section 337 based upon the importation into the United States, the sale for importation, and the sale within the United States after importation of certain vehicle security and remote convenience systems and components thereof by reason of infringement of certain claims of U.S. Patent No. 7,191,053 (the “'053 patent”), U.S. Patent No. 7,483,783 (the “'783 patent”), U.S. Patent No. 7,646,285 (the “'285 patent”), U.S. Patent No. 7,898,386 (the “'386 patent”), and U.S. Patent No. 8,378,800 (the “'800 patent”). The complaint further alleges that an industry in the United States exists as required by the applicable Federal Statute.

The complainants request that the Commission institute an investigation and, after the investigation, issue a limited exclusion order and cease and desist orders.

Addresses: The complaint, except for any confidential information contained therein, is available for inspection during official business hours (8:45 a.m. to 5:15 p.m.) in the Office of the Secretary, U.S. International Trade Commission, 500 E Street SW, Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov. The public record for this investigation may be viewed on the Commission's electronic docket (EDIS) at https://edis.usitc.gov.

FOR FURTHER INFORMATION CONTACT: Katherine Hiner, Office of the Secretary, Docket Services Division, U.S. International Trade Commission, telephone (202) 205-1802.

SUPPLEMENTARY INFORMATION:

Authority: The authority for institution of this investigation is contained in section 337 of the Tariff Act of 1930, as amended, 19 U.S.C. 1337, and in section 210.10 of the Commission's Rules of Practice and Procedure, 19 CFR 210.10 (2018).

Scope of Investigation: Having considered the complaint, the U.S. International Trade Commission, on April 4, 2019, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1-9, 11-14, 16-19, 21-24, 26, 29-32, 34, 35, 38-40, 81-89, 91-94, 96, 99, and 100 of the '053 patent; 1-3, 6, 7, 18, 25, 52, 53, 56, and 57 of the '783 patent; claims 1-9 and 12-16 of the '386 patent; claims 1-3, 17, 39, 40 and 52 of the `285 patent, and claims 1-6, 8, and 11-15 of the '800 patent; and whether an industry in the United States exists as required by subsection (a)(2) of section 337;

(2) Pursuant to section 210.10(b)(1) of the Commission's Rules of Practice and Procedure, 19 CFR 210.10(b)(1), the plain language description of the accused products or category of accused products, which defines the scope of the investigation, is “user smartphones running software applications or handheld key fobs with software for sending commands to vehicles; vehicle-installed modules that receive commands from the smartphones or key fobs and communicate with vehicle electronics to execute the commands; and vehicle accessories that are turned on/off or otherwise controlled by the smartphones, key fobs, and/or in-vehicle modules”;

(3) For the purpose of the investigation so instituted, the following are hereby named as parties upon which this notice of investigation shall be served:

(a) The complainants are:

DEI Holdings, Inc., Directed, LLC, 1 Viper Way, Vista, California 92081.

Directed Electronics Canada Inc., 2750 Alphonse-Gariepy St., Lachine, Quebec, H8T 3M2, Canada.

(b) The respondents are the following entities alleged to be in violation of section 337, and are the parties upon which the complaint is to be served:

Automotive Data Solutions, Inc., 8400 Bougainville, Montreal, QC H4P 2G1, Canada.

Firstech, LLC, 21903 68th Avenue South, Kent, Washington 98032.

AAMP of Florida, Inc., 15500 Lightwave Drive, Suite 202, Clearwater, Florida 33760.

(3) For the investigation so instituted, the Chief Administrative Law Judge, U.S. International Trade Commission, shall designate the presiding Administrative Law Judge.

The Office of Unfair Import Investigations will not participate as a party in this investigation.

Responses to the complaint and the notice of institution of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of institution of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: April 5, 2019.
Lisa Barton,
Secretary to the Commission.

[FR Doc. 2019-07101 Filed 4-9-19; 8:45 am]

BILLING CODE 7020-02-P